DEPARTMENT OF ENERGY

Federal Energy Regulatory Commission

[Project No. 7274-035]

Town of Wells; Notice of Application Accepted for Filing and Soliciting Motions To Intervene and Protests

Take notice that the following hydroelectric application has been filed with the Commission and is available for public inspection.

a. Type of Application: Subsequent License.

b. Project No.: 7274-035.

c. Date Filed: July 31, 2023.

d. Applicant: Town of Wells.

e. Name of Project: Lake Algonquin Hydroelectric Project.

f. Location: On the Sacandaga River in the town of Wells, Hamilton County, New York.

g. Filed Pursuant to: Federal Power Act 16 U.S.C. 791(a)-825(r).

h. Applicant Contact: Matthew Taylor, Principle-in-Charge, GZA GeoEnvironmental of New York, 104 West 29th Street, 10th Floor, New York 10001; Phone at (781) 278-5803 or email at matthew.taylor@gza.com; or Beth Hunt, Supervisor, Town of Wells, P.O. Box 205, Wells, New York 12190; Phone at (518) 924-7912 or email at beth-hunt@townofwells.org.

i. FERC Contact: Samantha Pollak at (202) 502-6419, or samantha.pollak@ferc.gov.

j. Deadline for filing motions to intervene and protests: 60 days from the issuance date of this notice.

The Commission strongly encourages electronic filing. Please file motions to intervene and protests using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Lake Algonquin Hydroelectric Project (P-7274-035).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The Lake Algonquin Hydroelectric Project consists of the following facilities: (1) a 239-foot-long, 26.5-foot-high concrete gravity dam composed of an ogee spillway section at each end and a gated spillway section in the middle with three steel 19-foot-wide by 12-foot-high vertical lift roller gates; (2) an impoundment with a surface area of 275 acres and a storage capacity of 2,557 acre-feet at an elevation of 986.84 feet National Geodetic Vertical Datum of 1929; (3) a 27-foot-high, 21-foot-wide, 52-foot-long intake structure; (4) a 10-foot-diameter, 113-foot-long steel penstock; (5) a 25-foot-wide, 63-foot-long concrete, steel, and masonry powerhouse containing one Kaplan turbine unit with a rated capacity of 740 kilowatts; (6) a 480-volt/4.8-kilovolt (kV) step-up transformer; (7) a 4.8-kV, approximately 50-foot-long overhead transmission line; and (8) appurtenant facilities.

The project operates in a run-of-river mode with a minimum flow of 20 cubic feet per second, or reservoir inflow, whichever is less. The project has an average annual generation of 1.363 megawatt-hours between 2015 and 2020.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural Schedule: The application will be processed according to the following schedule. Revisions to the schedule will be made as appropriate.

Issue Scoping Document 1 for comments—April 2025

Comments on Scoping Document 1 due—May 2025

Request Additional Information (if necessary)—June 2025

Issue Scoping Document 2 (if necessary)—June 2025

Issue Notice of Ready for Environmental Analysis—June 2025

Dated: March 19, 2025.
Debbie-Anne A. Reese,
Secretary.

[FR Doc. 2025-05082 Filed 3-25-25; 8:45 am]

BILLING CODE 6717-01-P